DEPARTMENT OF HEALTH AND HUMAN SERVICES

Health Resources and Services Administration

Statement of Delegation of Authority

Notice is hereby given that I have delegated to the Administrator, Health Resources and Services Administration, certain authorities vested in the Secretary of Health and Human Services under Section 219 of Public Law 110-161, as amended hereafter, pertaining to the Delta Health Initiative.

These authorities may be redelegated.

This delegation excludes the authority to issue regulations and to submit reports to Congress, and shall be exercised in accordance with the Department's applicable policies, procedures, and guidelines.

In addition, I have affirmed and ratified any actions taken by the Administrator, or other HRSA officials, which involved the exercise of these authorities prior to the effective date of this delegation.

This delegation is effective upon date of signature.

Dated: February 9, 2009.
Charles E. Johnson,
Acting Secretary.

[FR Doc. E9-3842 Filed 2-24-09; 8:45 am]

BILLING CODE 4165-15-M